DEPARTMENT OF ENERGY

Federal Energy Regulatory Commission

[Docket Nos. PH08-24-001; PH08-25-001]

Horizon Asset Management, Inc.; Order Tolling 60-Day Period for Action To Allow for Further Consideration

September 19, 2008.

To afford additional time for further consideration of the matters at issue in the above-captioned proceeding, the 60-day period for action is hereby tolled. 18 CFR 366.4(b)(1), 366.4(c)(1). The temporary exemption or waiver provided by the regulations will remain in effect until such time as the Commission has determined whether to grant or deny the requested exemption or waiver. Id.

Kimberly D. Bose,
Secretary.

[FR Doc. E8-22614 Filed 9-25-08; 8:45 am]

BILLING CODE 6717-01-P